DEPARTMENT OF JUSTICE

Antitrust Division

Notice Pursuant to the National Cooperative Research and Production Act of 1993—Medical Technology Enterprise Consortium

Notice is hereby given that, on April 7, 2025, pursuant to section 6(a) of the National Cooperative Research and Production Act of 1993, 15 U.S.C. 4301 et seq. (“the Act”), Medical Technology Enterprise Consortium (“MTEC”), has filed written notifications simultaneously with the Attorney General and the Federal Trade Commission disclosing changes in its membership. The notifications were filed for the purpose of extending the Act's provisions limiting the recovery of antitrust plaintiffs to actual damages under specified circumstances. Specifically, AbViro LLC, Bethesda, MD; Advanced BioScience Laboratories, Inc., Rockville, MD; Advanced Light Devices LLC, Las Vegas, NV; AI Optics, Inc., New York, NY; Alamgir Research, Inc. dba ARIScience, Wayland, MA; Alcamena Stem Cell Therapeutics LLC, Halethorpe, MD; American Type Culture Collection, Manassas, VA; BelleTorus Corp., Cambridge, MA; BIOPAC Systems, Inc., Goleta, CA; Bitterroot Innovation LLC, Stevensville, MT; Business Enabled Acquisition and Technology, Inc., San Antonio, TX; CereVu Medical, Inc., San Francisco, CA; CleanBeam Technologies LLC, Greensboro, NC; Clearview Limited LLC dba Grant Engine, Durham, NC; Clyra Medical Technologies, Inc., Tampa, FL; Cornell University, Ithaca, NY; CranioSense, Inc., Bedford, MA; DanForth Advisors, Waltham, MA; Dephy, Inc., Boxborough, MA; Evrys Bio LLC, Doylestown, PA; Global Resonance Technologies LLC, Shelbourne, VT; GreenLifeTech Corp., Banner Elk, NC; Griffith University, Southport, COMMONWEALTH OF AUSTRALIA; Guide Biomedical Solutions LLC, Media, PA; Healables Digital Health, Inc., Miami, FL; Health Helper Holdings, Inc., Hollywood, FL; Heartland GS LLC, Delaware, OH; Hemerus Medical LLC, St Paul, MN; Humanetics Corp., Excelsior, MN; ICPupil, Ltd., Tel Aviv, STATE OF ISRAEL; Innovative Design Labs, Inc., Minneapolis, MN; IntegerBio, Inc., Gaithersburg, MD; KBR, Houston, TX; Layer 3 Services Pty, Ltd., Fyshwick, COMMONWEALTH OF AUSTRALIA; LumenAstra, Inc., Boulder, CO; Matisse Pharmaceuticals, B.V., Geleen, KINGDOM OF THE NETHERLANDS; Medasense Biometrics, Ltd., Ramat Gan, STATE OF ISRAEL; MendaCel, Inc., Laguna Beach, CA; MHCombiotic, Inc., Calgary, CANADA; Miracus LLC, Troy, MI; Molecular Technologies Laboratories dba InfinixBio, Galena, OH; Musculoskeletal Transplant Foundation, Inc., Edison, NJ; Nanohmics, Inc., Austin, TX; Neural Dynamics Technologies, Inc., Newton, MA; Neurovascular Research and Design Corp., Tucson, AZ; NextCure, Inc., Beltsville, MD; Nostopharma LLC, Bethesda, MD; Obvius Robotics, Inc., Sunrise, FL; Orgenesis, Inc., Germantown, MD; pdx-tec LLC dba ppx-tec LLC, Jackson, MS; Persistent Technology, Inc., Alexandria, VA; President and Fellows of Harvard College, Cambridge, MA; PROYECCIÓN 22 SA DE CV, Uruapan, UNITED MEXICAN STATES; Pulsethera, Inc., Chestnut Hill, MA; Quest Consultants LLC dba Aerstone, Kensington, KINGDOM OF MOROCCO; Radiatric, Inc., Washougal, WA; Results Group LLC, Glastonbury, CT; Roam Robotics, Inc., San Francisco, CA; Safeguard Surgical, Tampa, FL; SafePush LLC, New Orleans, LA; Sciperio, Inc., Orlando, FL; Senseye, Inc., Austin, TX; SereNeuro Therapeutics, Inc., Baltimore, MD; Signature Performance, Inc., Omaha, NE; SilverStream Medical, Caesarea, STATE OF ISRAEL; Solascure, Ltd., Cambridge, UNITED KINGDOM; Stoic Bio, Inc., San Diego, CA; Summit Technology Laboratory, Irvine, CA; Tillerline Associates LLC, Solon, OH; Tunnell Consulting, Inc., Bethesda, MD; University of Arkansas for Medical Sciences, Little Rock, AR; Valinor Enterprises, Alexandria, VA; Vira Regen, Inc., Salt Lake City, UT; and VitaKey, Inc., Birmingham, AL have been added as parties to this venture.

No other changes have been made in either the membership or planned activity of the group research project. Membership in this group research project remains open, and MTEC intends to file additional written notifications disclosing all changes in membership.

On May 9, 2014, MTEC filed its original notification pursuant to section 6(a) of the Act. The Department of Justice published a notice in the Federal Register pursuant to section 6(b) of the Act on June 9, 2014 (79 FR 32999).

The last notification was filed with the Department on January 6, 2025. A notice was published in the Federal Register pursuant to section 6(b) of the Act on February 4, 2025 (90 FR 8943).

Suzanne Morris,
Deputy Director Civil Enforcement Operations, Antitrust Division.

[FR Doc. 2025-10813 Filed 6-12-25; 8:45 am]

BILLING CODE P